NUCLEAR REGULATORY COMMISSION

[NRC-2009-0553]

Biweekly Notice Applications and Amendments to Facility Operating Licenses Involving No Significant Hazards Considerations

I. Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from November 18, 2009 to December 2, 2009. The last biweekly notice was published on December 1, 2009 (74 FR 62831).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking and Directives Branch (RDB), TWB-05-B01M, Division of Administrative Services, Office of Administration, U.S. Nuclear Regulatory Commission, Washington, DC 20555-0001, and should cite the publication date and page number of this Federal Register notice. Written comments may also be faxed to the RDB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from December 15, 2009. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Dominion Energy Kewaunee, Inc. Docket No. 50-305, Kewaunee Power Station, Kewaunee County, Wisconsin

Date of amendment request: August 24, 2009.

Description of amendment request: The licensee proposed to convert the Kewaunee Power Station (KPS) current Technical Specifications (CTS) to the Improved Technical Specifications (ITS) format as outlined in NUREG-1431, Rev. 3.0, “Standard Technical Specifications, Westinghouse Plants.” Some of the proposed changes involve reformatting, renumbering, and rewording of the CTS with no change in intent. These changes, since they do not involve technical changes to the CTS, are administrative. This type of change is connected with the movement of requirements, or with the modification of wording that does not affect the technical content of the CTS. These changes also include non-technical modifications of requirements to conform to TSTF-GG-05-01, “Writer's Guide for Plant-Specific Improved Standard Technical Specifications,” or provide consistency with the Improved Standard Technical Specifications in NUREG-1431. Administrative changes are not intended to add, delete, or relocate any technical requirements of the CTS.

Basis for proposed no significant hazards consideration determination: As required by 10 CFR 50.91(a), the licensee has provided its analysis of the issue of no significant hazards consideration, which is presented below:

1. Does the proposed change involve a significant increase in the probability or consequences of an accident previously evaluated?

Response: No.

The proposed change involves reformatting, renumbering, and rewording the CTS. The reformatting, renumbering, and rewording process involves no technical changes to the CTS. As such, this change is administrative in nature and does not affect initiators of analyzed events or assumed mitigation of accident or transient events. Therefore, the proposed change does not involve a significant increase in the probability or consequences of an accident previously evaluated.

2. Does the proposed change create the possibility of a new or different kind of accident from any accident previously evaluated?

Response: No.

The proposed change does not involve a physical alteration of the plant (no new or different type of equipment will be installed) [nor does it change] methods governing normal plant operation. The proposed change will not impose any new or eliminate any old requirements. Therefore, the proposed change does not create the possibility of a new or different kind of accident from any previously evaluated.

3. Does the proposed change involve a significant reduction in a margin of safety?

Response: No.

The proposed change will not reduce a margin of safety because it has no effect on any safety analyses assumptions. This change is administrative in nature. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., Counsel for Dominion Energy Kewaunee, Inc., 120 Tredegar Street, Richmond, VA 23219.

NRC Branch Chief: Robert J. Pascarelli.

Entergy Operations, Inc., Docket No. 50-382, Waterford Steam Electric Station, Unit 3, St. Charles Parish, Louisiana

Date of amendment request: October 22, 2009.

Description of amendment request: The proposed change will modify the Technical Specifications (TSs), to clarify Table 2.2-1, Notes “1” and “5”; and Table 3.3-1, Notes “a” and “c”, Table 3.3-1 Action 2, and Table 3.3-1 Action 3 which have resulted in Plant Protection System redundancy issues with respect to verbatim compliance.

Basis for proposed no significant hazards consideration determination: As required by 10 CFR 50.91(a), the licensee has provided its analysis of the issue of no significant hazards consideration, which is presented below:

1. Does the proposed change involve a significant increase in the probability or consequences of an accident previously evaluated?

Response: No.

The proposed changes modify the table notations for the 10⁻⁴% [percent] Bistable in Technical Specifications (TS) TS Table 2.2-1 Notes “1” and “5”, TS Table 3.3-1 Notes “a” and “c”, TS Table 3.3-1 Action 2, and TS Table 3.3-1 Action 3. The proposed changes to these trip bypass removal functions do not adversely impact any system, structure, or component design or operation in a manner that would result in a change in the frequency or occurrence of accident initiation. The reactor trip bypass removal functions are not accident initiators. System connections and the trip setpoints themselves are not affected by trip bypass removal setpoint variations.

As previously approved in TS Amendment 145 [issued September 24, 1998], the hysteresis for the 10⁻⁴% Bistable is small, there is a negligible impact on the CEA [control element assembly] withdrawal analyses. Revised analyses, accounting for slightly different bypass removal power levels caused by the bistable hysteresis, would result in negligible changes to the calculated peak power and heat flux for the pertinent CEA withdrawal events. Therefore, the consequences of any accident previously evaluated will not significantly change.

With respect to the clarification proposed for the THERMAL POWER input to the bypass capability of the affected reactor trips for the 10⁻⁴% Bistable, the proposed change does not alter the manner of operation of the operating bypasses and automatic bypass removals. This change corrects a discrepancy between the formal definition of this terminology and its use in the context of the applicable Technical Specifications.

Therefore, the proposed change will not involve a significant increase in the probability or consequences of any accident previously evaluated.

2. Does the proposed change create the possibility of a new or different kind of accident from any accident previously evaluated?

Response: No.

The trip bypass removal functions in question protect against possible reactivity events. The power, criticality levels, and possible bank withdrawals associated with these trip functions have already been evaluated. Therefore, all pertinent reactivity events have previously been considered. Slight differences in the power level at which the automatic trip bypass removal occurs can not cause a different kind of accident.

The proposed changes to TS Table 2.2-1 Notes “1” and “5”, TS Table 3.3-1 *Notes “a” and “c”, TS Table 3.3-1 Action 2, and TS Table 3.3-1 Action 3 do not alter any plant system, structure, or component. Furthermore, these changes do not reduce the capability of any safety-related equipment to mitigate AOOs [anticipated operational occurrences].

In addition, no new or different accidents result from proposed clarifications to the operating bypasses and automatic bypass removals of the affected reactor trips. The results of previously performed accident analyses remain valid. Therefore, this change does not create the possibility of a new or different kind of accident.

3. Does the proposed change involve a significant reduction in a margin of safety?

Response: No.

The safety function associated with the CPC [core protection calculators] and HLP [high logarithmic power] trip functions are maintained. Since the hysteresis for the 10⁻⁴% Bistable is small, there is a negligible impact on the CEA withdrawal analyses. Calculated peak power and heat flux are not significantly changed as a result of the bistable hysteresis. All acceptance criteria are still met for these events. There is no change to any margin of safety as a result of this change.

Clarification of the THERMAL POWER input to the operating bypasses and automatic bypass removals of the 10⁻⁴% Bistable does not alter the operation of the operating bypasses and automatic bypass removals of the affected reactor trips. This change corrects a discrepancy between the formal definition of this terminology and its use in the context of the applicable Technical Specifications.

Therefore, the proposed change will not involve a significant reduction in a margin of safety.

The NRC staff has reviewed the licensee's analysis and, based on this review, it appears that the three standards of 10 CFR 50.92(c) are satisfied. Therefore, the NRC staff proposes to determine that the amendment request involves no significant hazards consideration.

Attorney for licensee: Terence A. Burke, Associate General Counsel—Nuclear Entergy Services, Inc., 1340 Echelon Parkway, Jackson, Mississippi 39213.

NRC Branch Chief: Michael T. Markley.

FirstEnergy Nuclear Operating Company, et al., Docket Nos. 50-334 and 50-412, Beaver Valley Power Station, Unit Nos. 1 and 2 (BVPS-1 and 2), Beaver County, Pennsylvania

Date of amendment request: June 11, 2009.

Description of amendment request: The proposed amendment would: (1) Modify Technical Specifications (TSs) to eliminate Surveillance Requirement (SR) 3.3.2.9, which verifies that the Engineered Safety Feature Actuation System Response Times are within the limits for the recirculation spray pumps, (2) revise Section 1.4 of the TSs to add clarification to Notes associated with SRs in accordance with Technical Specification Task Force Traveler, TSTF 475-A, Revision 1, “Control Rod Notch Testing Frequency and SRM [Source Range Monitor] Insert Control Rod Action,” (3) revise the BVPS-1 operating license to remove a License Condition for recommended inspections of steam generator repairs, and (4) revise the BVPS-2 operating license to remove an exemption to 10 CFR 70.24.

Basis for proposed no significant hazards consideration determination: As required by 10 CFR 50.91(a), the licensee has provided its analysis of the issue of no significant hazards consideration, which is presented below:

1. Does the proposed change involve a significant increase in the probability or consequences of an accident previously evaluated?

Response: No.

The proposed changes to the Operating License pages and Example 1.4-1 are editorial changes that do not have any effect on equipment or plant operation. Therefore, these proposed changes will not involve a significant increase in the probability or consequences of an accident previously evaluated.

The elimination of the requirement to verify a response time for the recirculation spray pumps will not affect the operation of the pumps and will not impact the applicable safety analyses because the potential variation in the measurable response time has an insignificant effect on the results of the applicable safety analyses. The recirculation spray system is an accident mitigation system, so no new accident initiators are created by the elimination of the subject surveillance requirement. Thus eliminating the surveillance requirement will not result in a significant increase in the probability of an accident previously evaluated. The elimination of the subject surveillance requirement will not impact the accident mitigation function of the recirculation spray system because the pump response time is not a critical safety analyses assumption due to the fact that the potential variation in the measurable response time has an insignificant effect on the analysis. Since the post-accident performance of the recirculation spray system is not changed by eliminating the requirement to verify a response time for the pumps, the proposed change will not involve a significant increase in consequences of an accident previously evaluated. Therefore, the elimination of the surveillance requirement will not involve a significant increase in the probability or consequences of an accident previously evaluated.

Therefore, the proposed changes do not involve a significant increase in the probability or consequences of an accident previously evaluated.

2. Does the proposed amendment create the possibility of a new or different kind of accident from any accident previously evaluated?

Response: No.

The proposed changes to the Operating License pages and Example 1.4-1 are editorial changes that do not have any effect on equipment or plant operation. Therefore, these proposed changes will not create the possibility of a new or different kind of accident from any accident previously evaluated.

The elimination of the surveillance requirement to verify a response time for the recirculation spray pumps will not affect the operation of the pumps. The pumps will continue to perform in the same manner after the elimination of the surveillance requirement as they do with the surveillance requirement. Therefore, the elimination of the surveillance requirement will not create the possibility of a new or different kind of accident from any accident previously evaluated.

Therefore, the proposed changes do not create the possibility of a new or different kind of accident from any previously evaluated.

3. Does the proposed amendment involve a significant reduction in a margin of safety?

Response: No.

The proposed changes to the Operating License pages and Example 1.4-1 are editorial changes that do not have any effect on equipment or plant operation. Therefore, these proposed changes will not involve a significant reduction in a margin of safety.

The elimination of the surveillance requirement to verify a response time for the recirculation spray pumps is consistent with the applicable safety analysis since a response time for the pumps is not an analysis assumption. As a result the existing margin of safety is not impacted. Therefore, the elimination of the surveillance requirement will not involve a significant reduction in a margin of safety.

Therefore, the proposed changes do not involve a significant reduction in a margin of safety.

The Nuclear Regulatory Commission (NRC) staff has reviewed the licensee's analysis and, based on this review, it appears that the three standards of 10 CFR 50.92(c) are satisfied. Therefore, the NRC staff proposes to determine that the amendment request involves no significant hazards consideration.

Attorney for licensee: David W. Jenkins, FirstEnergy Nuclear Operating Company, FirstEnergy Corporation, 76 South Main Street, Akron, OH 44308.

NRC Branch Chief: Nancy L. Salgado.

Tennessee Valley Authority, Docket No. 50-390, Watts Bar Nuclear Plant, Unit 1, Rhea County, Tennessee

Date of amendment request: October 30, 2009.

Description of amendment request: The proposed amendment would revise Watt Bar Nuclear Plan, Unit 1 license by adding an exception to Operating License Condition 2.F regarding the provisions of the Fire Protection Program.

Basis for proposed no significant hazards consideration determination: As required by 10 CFR 50.91(a), the licensee has provided its analysis of the issue of no significant hazards consideration, which is presented below:

A. Does the proposed amendment involve a significant increase in the probability or consequences of an accident previously evaluated?

Response: No.

The proposed change does not affect the design of the automatic total-flooding CO2 [carbon dioxide] suppression system, the operational characteristics or function of the CO2 suppression system, the interfaces between the CO2 suppression system and other plant systems, or the reliability of the CO2 suppression system. The CO2 suppression system is not considered an initiator of any Updated Final Safety Analysis Report (UFSAR) accident or transient previously evaluated. The CO2 suppression system is designed to extinguish a fire or control and minimize the effects of a fire until the fire brigade can respond and extinguish it.

The consequences of previously evaluated accidents and transients will not be significantly affected by the revised requirements for CO2 concentration in the Auxiliary Instrument Room because the CO2 suppression system is not credited in the accident analyses. Although the function of the system is to extinguish a fire or control and minimize the effects of a fire until the fire brigade can respond and extinguish it, this function does not mitigate accidents or transients. Thus, the consequences of accidents or transients previously evaluated are not affected by the proposed change in the required CO2 concentration for the Auxiliary Instrument Room.

Therefore, the proposed change does not involve a significant increase in the probability or consequences of an accident previously evaluated.

B. Does the proposed amendment create the possibility of a new or different kind of accident from any accident previously evaluated?

Response: No.

The proposed change does not involve a change in the design, configuration, or method of operation of the plant. The proposed change will not alter the manner in which equipment operation is initiated, nor will the functional demands on credited equipment be changed. The capability for fire suppression and extinguishment will not be changed. The proposed change does not affect the interaction of the CO2 suppression system with any system whose failure or malfunction can initiate an accident. As such, no new failure modes are being introduced.

Therefore, the proposed change does not create the possibility of a new or different kind of accident from any accident previously evaluated.

C. Does the proposed amendment involve a significant reduction in a margin of safety?

Response: No.

The proposed change does not alter the plant design, including instrument setpoints, nor does it alter the assumptions contained in the safety analyses. The CO2 suppression system is designed for fire suppression and extinguishment and is not assumed or credited for accident mitigation. Although the change does reduce a parameter (CO2 concentration) specified in the license, the proposed change does not impact the redundancy or availability of equipment required for accident mitigation, or the ability of the plant to cope with design basis accident events.

Therefore, the change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: L. Raghavan.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management System (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Florida Power and Light Company, Docket No. 50-251, Turkey Point Plant, Unit 4, Miami-Dade County, Florida

Date of application for amendment: September 1, 2009, supplemented by letters dated October 28, 29, and 31, November 5, 6, 12, and 13, 2009.

Brief description of amendment: The request would change the implementation date of approved license amendment 229 for Unit 4, dated July 17, 2007, from “prior to the end of Turkey Point 4 cycle 24” to “no later than February 28, 2011, for Unit 4 only.”

Date of issuance: November 13, 2009.

Effective date: As of the date of issuance and shall be implemented immediately.

Amendment No.: 237.

Renewed Facility Operating License No. DPR-41: Amendment revised the license.

Date of initial notice in Federal Register: September 15, 2009 (74 FR 47278). The supplements dated October 28, 29, and 31, November 5, 6, 12, and 13, 2009, provided additional information that clarified the application, did not expand the scope of the application as originally noticed, and did not change the staff's original proposed no significant hazards consideration determination as published in the Federal Register.

The Commission's related evaluation of the amendment is contained in a Safety Evaluation dated November 13, 2009.

No significant hazards consideration comments received: No.

Tennessee Valley Authority, Docket Nos. 50-259, 50-260, and 50-296, Browns Ferry Nuclear Plant, Units 1, 2, and 3, Limestone County, Alabama

Date of application for amendments: April 24, 2009 (TS-464).

Description of amendment request: The proposed changes revised the Technical Specifications (TS) Bases sections 3.1.6, “Rod Pattern Control,” and 3.3.2.1, “Control Rod Block Instrumentation” to allow the Browns Ferry units to reference in the improved control rod banked position withdrawal sequence (BPWS) when performing a reactor shutdown. In addition, the proposed changes added a footnote to TS Table 3.3.2.1-1, “Control Rod Block Instrumentation”. The proposed changes are consistent with Nuclear Regulatory Commission approved Industry Technical Specification Task Force (TSTF) Standard Technical Specification Change Traveler, TSTF-476, Revision 1, “Improved BPWS Control Rod Insertion Process (NEDO-33091).”

Date of issuance: November 19, 2009.

Effective date: Date of issuance, to be implemented within 60 days.

Amendment Nos.: 276, 303, and 262.

Renewed Facility Operating License Nos. DPR-33, DPR-52, and DPR-68: Amendments revised the Technical Specifications.

Date of initial notice in Federal Register: July 28, 2009 (74 FR 37249).

The Commission's related evaluation of the amendment is contained in a Safety Evaluation dated November 19, 2009.

No significant hazards consideration comments received: No.

Dated at Rockville, Maryland, this 3rd day of December 2009.
For the Nuclear Regulatory Commission.
Joseph G. Giitter,
Director Division of Operating Reactor Licensing, Office of Nuclear Reactor Regulation.

[FR Doc. E9-29545 Filed 12-14-09; 8:45 am]

BILLING CODE 7590-01-P